DEPARTMENT OF DEFENSE

Department of the Navy

Notice of Availability for Donation of the Submarine ex-TROUT (SS 566) and the Destroyer ex-EDSON (DD 946)

AGENCY: Department of the Navy, DoD.

ACTION: Notice.

SUMMARY: The Department of the Navy hereby gives notice of the availability for donation as a museum and/or memorial, the Submarine ex-TROUT (SS 566) and the Destroyer ex-EDSON (DD 946), both located at the NAVSEA Inactive Ships On-Site Maintenance Office, Philadelphia, PA, under the authority of 10 U.S.C. section 7306. Eligible recipients include: (1) Any State, Commonwealth, or possession of the United States or any municipal corporation or political subdivision thereof; (2) the District of Columbia; or (3) any organization incorporated as a non-profit entity under section 501 of the Internal Revenue Code. The transfer of a ship for donation under 10 U.S.C. 7306 shall be made at no cost to the United States government. The donee will be required to maintain the ship as a static display in a condition that is satisfactory to the Secretary of the Navy. Prospective donees must submit a comprehensive application that addresses the significant financial, technical, environmental, and curatorial responsibilities associated with donated Navy ships. Further application information can be found on the Navy Ship Donation Program Web site at http://www.navsea.navy.mil/ndp. All vessels currently in a donation hold status, including the ex-TROUT (SS 566) and the ex-EDSON (DD 946) will be reviewed by the Chief of Naval Operations during the annual Ship Disposition Review (SDR) process, at which time a determination will be made whether to extend donation hold status.

Other ships that are currently available for donation include:

—Patrol Combat ex-CANON (PG 90), Philadelphia, PA.

—Guided Missile Destroyer ex-CHARLES F. ADAMS (DDG 2), Philadelphia, PA.

—Destroyer ex-CONOLLY (DD 979) Philadelphia, PA.

— Heavy Gun Cruiser, ex-DES MOINES (CA 134), Philadelphia, PA.

— Destroyer ex-FORREST SHERMAN (DD 931), Philadelphia, PA.

— Frigate ex-KNOX (FF 1052), Bremerton, WA.

— Amphibious Assault Ship ex-NEW ORLEANS (LPH 11), Suisun Bay, CA.

— Aircraft Carrier ex-RANGER (CV 61), Bremerton, WA.

— Aircraft Carrier ex-SARATOGA (CV 60), Newport, RI.

FOR FURTHER INFORMATION CONTACT: Commander, Program Executive Office Ships (PEO SHIPS), PMS333, Inactive Ship Program Office, Ship Donation Program, ATTN: Ms. Gloria Carvalho (PMS 333G), 1333 Isaac Hull Avenue SE., Stop 2701, Washington Navy Yard, DC 20376-2701, telephone (202) 781-0485.

Dated: June 14, 2004.
S. K. Melancon,
Paralegal Specialist, Office of the Judge Advocate General, Alternate Federal Register Liaison Officer.

[FR Doc. 04-13769 Filed 6-17-04; 8:45 am]

BILLING CODE 3810-FF-P